DEPARTMENT OF THE TREASURY

Internal Revenue Service

26 CFR Part 20

[REG-130975-08]

RIN 1545-BI11

Guidance Under Section 2053 Regarding Deduction for Interest Expense and Amounts Paid Under a Personal Guarantee, Certain Substantiation Requirements, and Applicability of Present Value Concepts; Hearing Cancellation

AGENCY: Internal Revenue Service (IRS), Treasury.

ACTION: Cancellation of a notice of public hearing on proposed rulemaking.

SUMMARY: This document cancels a public hearing on proposed regulations providing guidance on the proper use of present-value principles in determining the amount deductible by an estate for funeral expenses, administration expenses, and certain claims against the estate.

DATES: The public hearing originally scheduled for October 12, 2022, at 10 a.m. EST is cancelled.

FOR FURTHER INFORMATION CONTACT: Vivian Hayes of the Publications and Regulations Branch, Legal Processing Division, Associate Chief Counsel (Procedure and Administration) at (202) 317-6901 (not a toll-free number).

SUPPLEMENTARY INFORMATION: A notice of proposed rulemaking and a notice of public hearing that appeared in the Federal Register on June 28, 2022 (87 FR 38331) announced that a public hearing being held by teleconference was scheduled for October 12, 2022, at 10 a.m. EST. The subject of the public hearing is under section 2053 of the Internal Revenue Code.

The public comment period for these regulations expired on September 26, 2022. The notice of proposed rulemaking and notice of public hearing instructed those interested in testifying at the public hearing to submit a request to testify and an outline of the topics to be addressed. We received one request to testify at the public hearing. As of October 4, 2022, the requestors have withdrawn their request to testify at the public hearing. Therefore, the public hearing scheduled for October 12, 2022, at 10 a.m. EST is cancelled.

Oluwafunmilayo A. Taylor,
Chief, Publications and Regulations Branch, Legal Processing Division, Associate Chief Counsel, (Procedure and Administration).

[FR Doc. 2022-22039 Filed 10-7-22; 8:45 am]

BILLING CODE 4830-01-P